DEPARTMENT OF HEALTH AND HUMAN SERVICES

Centers for Disease Control and Prevention

[Program Announcement 03161]

Human Immunodeficiency Virus/Acquired Immunodeficiency Syndrome (HIV/AIDS) Prevention Program Development and Technical Assistance Collaboration for Public Health Laboratory Science With Countries Targeted by CDC's Global AIDS Program (GAP); Notice of Intent To Fund Single Eligibility Award

A. Purpose

The Centers for Disease Control and Prevention (CDC) announces the intent to fund fiscal year (FY) 2003 funds for a cooperative agreement program for HIV/AIDS prevention program development and technical assistance collaboration with countries targeted by the Global AIDS Program (GAP). The Catalog of Federal Domestic Assistance number for this program is 93.941.

B. Eligible Applicant

Assistance will be provided only to the Association of Public Health Laboratories (APHL). APHL is the appropriate and only qualified agency to provide the services specified under this cooperative agreement because:

(1) APHL is the only officially established organization that represents public health laboratory science practitioners. As such, APHL represents officials from throughout the United States (U.S.) who have responsibility for all aspects of public health laboratory science, education, and management.

(2) APHL is in a unique position to act as the liaison between U.S. state and territorial public health laboratorians and GAP country health officials.

(3) APHL has wide experience in promoting the coordination of HIV/AIDS and other public health laboratory efforts among the U.S. states and territories, U.S. Government agencies, and international agencies. Thus, the organization is uniquely positioned to collaborate with national AIDS control program officials in GAP countries, international agencies and other interested parties on policy and program issues from a U.S. -based, multi-stakeholder perspective.

(4) The knowledge, skills and abilities that APHL represents through its members' expertise are of critical importance to improving the capacity of public health laboratories in GAP countries. Thus, APHL is uniquely positioned to provide CDC technical assistance by serving as a liaison between U.S. state and territorial public health laboratory officials and officials of national AIDS control programs in GAP countries. APHL possesses unique knowledge and insight that can be applied through technical assistance to strengthen the ability of GAP country national AIDS control programs to design, develop, implement and maintain HIV/AIDS public health laboratories based on the best practices of U.S. state and territorial public health laboratories.

(5) APHL has already established mechanisms for communicating HIV/AIDS laboratory practice information to the U.S. states and territories and their political subdivisions that carry out HIV/AIDS public health laboratory programs. They can use these mechanisms to exchange information between the U.S. states and territories and the public health officials in GAP countries to identify and develop effective public health laboratory information networks. This unique expertise also places APHL in the position to advise GAP country officials on developing their own national public health laboratory information networks.

C. Funding

Approximately $1,000,000 is available in FY 2003 to fund this award. It is expected that the award will begin on or before September 15, 2003, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Peter Crippen, Public Health Advisor, Global AIDS Program, National Center for HIV, STD, and TB Prevention, Centers for Disease Control and Prevention, 1600 Clifton Road, N.E., Atlanta, GA 30333, Telephone: 404-498-2712, E-mail address: phc1@cdc.

Dated: August 4, 2003.
Edward Schultz,
Acting Director, Procurement and Grants Office, Centers for Disease Control and Prevention.

[FR Doc. 03-20356 Filed 8-8-03; 8:45 am]

BILLING CODE 4163-18-P